DEPARTMENT OF THE INTERIOR

Bureau of Land Management

[LLMT-06000-01-L10200000-PG0000]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held December 7 and 8, 2010. The December 7 meeting will begin at 10 a.m. with a 30-minute public comment period and will adjourn at 5:30 p.m. The December 8 meeting will begin at 8 a.m. with a 30-minute public comment period and will adjourn at 3 p.m.

ADDRESSES: The meeting will be in the Calvert Hotel (216 7th Av. South) in Lewistown, Montana.

SUPPLEMENTARY INFORMATION: This 15-member council advises the Secretary of the Interior on a variety of management issues associated with public land management in Montana. During these meetings the council will participate in/discuss/act upon these topics: RAC comments and discussions; new member orientation; welcome for the new Montana/Dakotas State Director; the Plains and Prairie Potholes Landscape Conservation Cooperative; District Managers' updates; discussion about operating a successful RAC; the 2010 RAC workplan accomplishments; the 2011 RAC workplan input and decisions; OHV enforcement problems and fines for violators; potential new partnerships with stakeholders; the Monument Update Newsletter; the Limekiln project and the Rocky Mountain Elk Foundation Stewardship program; and administrative details.

All RAC meetings are open to the public. The public may present written comments to the RAC. Each formal RAC meeting will also have time allocated for hearing public comments. Depending on the number of persons wishing to comment and time available, the time for individual oral comments may be limited.

FOR FURTHER INFORMATON CONTACT: Gary L. “Stan” Benes, Lewistown Field Manager, Lewistown Field Office, 920 NE Main, Lewistown, MT 59457, (406) 538-1900.

Phillip C. Perlewitz,
Acting State Director, Montana/Dakotas BLM.

[FR Doc. 2010-28179 Filed 11-5-10; 8:45 am]

BILLING CODE 4310-DN-P